DEPARTMENT OF THE TREASURY

Office of Foreign Assets Control

Sanctions Actions Pursuant to Executive Orders 13382, 13572, 13573, and 13582.

AGENCY: Office of Foreign Assets Control, Treasury.

ACTION: Notice.

SUMMARY: The U.S. Department of the Treasury's Office of Foreign Assets Control (OFAC) is publishing the names of seven persons whose property and interests in property are blocked pursuant to Executive Order (E.O.) 13382, five persons whose property and interests in property are blocked pursuant to E.O. 13572, five persons whose property and interests in property are blocked pursuant to E.O. 13573, one person whose property and interests in property are blocked pursuant to E.O. 13582, and five entities identified as the Government of Syria pursuant to E.O. 13582.

DATES: OFAC's actions described in this notice were effective on January 12, 2017, as further specified below.

FOR FURTHER INFORMATION CONTACT: The Department of the Treasury's Office of Foreign Assets Control: Assistant Director for Licensing, tel.: 202-622-2480, Assistant Director for Regulatory Affairs, tel.: 202-622-4855, Assistant Director for Sanctions Compliance & Evaluation, tel.: 202-622-2490; or the Department of the Treasury's Office of the Chief Counsel (Foreign Assets Control), Office of the General Counsel, tel.: 202-622-2410.

SUPPLEMENTARY INFORMATION:

Electronic Availability

The Specially Designated Nationals and Blocked Persons List and additional information concerning OFAC sanctions programs are available on OFAC's Web site (www.treas.gov/ofac).

Notice of OFAC Actions

On January 12, 2017, OFAC blocked the property and interests in property of the following seven persons pursuant to E.O. 13382, “Blocking Property of Weapons of Mass Destruction Proliferators and Their Supporters”:

Individuals

1. ABBAS, Ghassan; DOB 10 Mar 1960; Scientific Studies and Research Center Brigadier General (individual) [NPWMD] (Linked To: SCIENTIFIC STUDIES AND RESEARCH CENTER).

2. AHMAD, Firas; DOB 21 Jan 1967; Scientific Studies and Research Center Colonel (individual) [NPWMD] (Linked To: SCIENTIFIC STUDIES AND RESEARCH CENTER).

3. DABUL, Samir; DOB 04 Sep 1965; Scientific Studies and Research Center Brigadier General (individual) [NPWMD] (Linked To: SCIENTIFIC STUDIES AND RESEARCH CENTER).

4. HAWRANI, Habib; DOB 25 Mar 1969; Scientific Studies and Research Center Colonel (individual) [NPWMD] (Linked To: SCIENTIFIC STUDIES AND RESEARCH CENTER).

5. HAYDAR, Zuhayr; DOB 18 Dec 1965; Scientific Studies and Research Center Colonel (individual) [NPWMD] (Linked To: SCIENTIFIC STUDIES AND RESEARCH CENTER).

6. WANUS, Ali; DOB 05 Feb 1964; Scientific Studies and Research Center Brigadier General (individual) [NPWMD] (Linked To: SCIENTIFIC STUDIES AND RESEARCH CENTER).

7. BITAR, Bayan (a.k.a. AL-BITAR, Bayan), PO Box 11037, Damascus, Syria; DOB 08 Mar 1947; Managing Director of the Organization for Technological Industries (individual) [NPWMD] (Linked To: ORGANIZATION FOR TECHNOLOGICAL INDUSTRIES).

On January 12, 2017, OFAC additionally blocked the property and interests in property of the following five persons pursuant to E.O. 13572, “Blocking Property of Certain Persons With Respect to Human Rights Abuses in Syria”:

Individuals

1. AL-HASAN, Suhayl Hasan (a.k.a. HASSAN, Suheil), Syria; DOB 1964; Gender Male; Syrian Air Force Intelligence Colonel (individual) [SYRIA] (Linked To: SYRIAN AIR FORCE INTELLIGENCE).

2. BILAL, Muhammad Nafi (a.k.a. BILAL, Muhammad), Syria; DOB 25 May 1971; alt. DOB 1971; Gender Male; Syrian Air Force Intelligence Colonel (individual) [SYRIA] (Linked To: SYRIAN AIR FORCE INTELLIGENCE).

3. DAHI, Yasin Ahmad, Syria; DOB 1960; Gender Male; Brigadier General (individual) [SYRIA] (Linked To: SYRIAN MILITARY INTELLIGENCE).

4. MAHALLA, Muhammad Mahmud (a.k.a. MAHALA, Muhammad), Syria; DOB 04 Jun 1959; Gender Male; Major General, Director of Syrian Military Intelligence (individual) [SYRIA] (Linked To: SYRIAN MILITARY INTELLIGENCE).

5. RAHMUN, Muhammad Khalid, Syria; DOB 01 Apr 1957; Gender Male; Major General; Chief of the Political Security Directorate (individual) [SYRIA] (Linked To: POLITICAL SECURITY DIRECTORATE).

On January 12, 2017, OFAC additionally blocked the property and interests in property of the following five persons pursuant to E.O. 13573, “Blocking Property of Senior Officials of the Government of Syria”:

Individuals

1. BALLUL, Ahmad (a.k.a. BALLUL, Ahmad Muhammad; a.k.a. BALLUL, Ahmed); DOB 10 Oct 1954; Major General, Syrian Air Force and Air Defense Forces Commander (individual) [SYRIA] (Linked To: SYRIAN AIR FORCE; Linked To: SYRIAN ARAB AIR DEFENSE FORCES).

2. DARWISH, Saji Jamil, Syria; DOB 11 Jan 1957; Gender Male; Major General, Syrian Air Force (individual) [SYRIA] (Linked To: SYRIAN AIR FORCE).

3. IBRAHIM, Muhammad; DOB 05 Aug 1964; Brigadier General (individual) [SYRIA] (Linked To: SYRIAN AIR FORCE).

4. MAKHLUF, Talal Shafiq (a.k.a. MAKHLOUF, Talal), Syria; DOB 01 Dec 1958; Gender Male; Major General, Syrian Republican Guard (individual) [SYRIA] (Linked To: SYRIAN ARAB REPUBLICAN GUARD).

5. MUALLA, Badi (a.k.a. MUALLA, Badi Sulayman), Syria; DOB 1961; alt. DOB 05 Apr 1961; POB Bistuwir, Jablah, Syria; Gender Male; Brigadier General, Syrian Air Force (individual) [SYRIA] (Linked To: SYRIAN AIR FORCE).

On January 12, 2017, OFAC blocked the property and interests in property of the following person pursuant to E.O. 13582, “Blocking Property of the Government of Syria and Prohibiting Certain Transactions with Respect to Syria”:

Individual

1. SHIHADAH, Rafiq (a.k.a. SHAHADAH, Rafiq; a.k.a. SHEHADEH, Rafik; a.k.a. SHIHADA, Rafiq; a.k.a. SHIHADAH, Wafiq), Syria; DOB 1954; Gender Male; Major General (individual) [SYRIA].

In addition, on January 12, 2017, OFAC identified the following five entities as falling within the definition of the Government of Syria as set forth in section 8(d) of E.O. 13582 and section 542.305 of the Syrian Sanctions Regulations, 31 CFR part 542:

Entities

1. SYRIAN AIR FORCE, Damascus, Syria [SYRIA].

2. SYRIAN ARAB AIR DEFENSE FORCES, Damascus, Syria [SYRIA].

3. SYRIAN ARAB ARMY, Damascus, Syria [SYRIA].

4. SYRIAN ARAB NAVY, Damascus, Syria [SYRIA].

5. SYRIAN ARAB REPUBLICAN GUARD, Damascus, Syria [SYRIA].

Dated: January 17, 2017.
John E. Smith,
Acting Director, Office of Foreign Assets Control.

[FR Doc. 2017-01442 Filed 1-23-17; 8:45 am]

BILLING CODE 4810-AL-P